Proclamation 7498 of November 9, 2001

National Family Caregivers Month, 2001

By the President of the United States of America

A Proclamation

During November, we traditionally give thanks for our many blessings, which include the dedication and sacrifice of our Nation's many family caregivers who enhance the lives of loved ones by helping them live at home, despite challenges that hinder independent living.

More than 7 million Americans devote themselves to this noble responsibility. Family caregivers dedicate an average of 20 hours per week in care for their loved ones and, in some cases, fulfill their multiple responsibilities around the clock. Those who provide in-home care for the elderly and for persons with disabilities face many demands. In performing such challenging and compassionate duties, family caregivers must sacrifice considerable time, resources, and personal comfort.

But these caregivers allow many older Americans to remain at home who would otherwise have to live in nursing homes. Seniors who live at home usually live longer, enjoy a more active life, and spend more time with their families and communities. As they lead fuller lives, this great generation continues to enrich our country by sharing their valuable wisdom and experience with younger generations.

To support those who work to keep their loved ones at home, my Administration has begun to implement the “National Family Caregiver Support Program.” Through a national network of state and area agencies on aging, the program provides information to caregivers about available counseling, support groups, training, and other services. In addition, the program provides respite care to temporarily relieve caregivers.

Family caregivers deserve our support and respect. They tirelessly assume demanding responsibilities for the benefit of those they love. During this challenging time for our Nation, their selfless heroism demonstrates the quiet determination and courage of the American spirit.

NOW, THEREFORE, I, GEORGE W. BUSH, President of the United States of America, by virtue of the authority vested in me by the Constitution and laws of the United States, do hereby proclaim November 2001 as National Family Caregivers Month. I encourage all Americans to recognize the importance of the family, of our older citizens, and the millions of caregivers who work to keep their loved ones at home.

IN WITNESS WHEREOF, I have hereunto set my hand this ninth day of November, in the year of our Lord two thousand one, and of the Independence of the United States of America the two hundred and twenty-sixth.

B

[FR Doc. 01-28803

Filed 11-14-01; 9:34 am]

Billing code 3195-01-P